DEPARTMENT OF COMMERCE

National Oceanic and Atmospheric Administration

50 CFR Part 665

[RTID 0648-XD391]

Pacific Island Fisheries; 2023 U.S. Territorial Longline Bigeye Tuna Catch Limits for the Commonwealth of the Northern Mariana Islands

AGENCY: National Marine Fisheries Service (NMFS), National Oceanic and Atmospheric Administration (NOAA), Commerce.

ACTION: Announcement of a valid specified fishing agreement.

SUMMARY: NMFS announces a valid specified fishing agreement that allocates up to 1,500 metric tons (t) of the 2023 bigeye tuna limit for the Commonwealth of the Northern Mariana Islands (CNMI) to U.S. longline fishing vessels. The agreement supports the long-term sustainability of fishery resources of the U.S. Pacific Islands, and fisheries development in the CNMI.

DATES: The specified fishing agreement was valid as of February 2, 2023. The start date for attributing 2023 bigeye tuna catch to the CNMI is October 8, 2023.

ADDRESSES: The Fishery Ecosystem Plan for Pelagic Fisheries of the Western Pacific (FEP) describes specified fishing agreements and is available from the Western Pacific Fishery Management Council (Council), 1164 Bishop St., Suite 1400, Honolulu, HI 96813, telephone 808-522-8220, fax 808-522-8226, or https://www.wpcouncil.org.

NMFS prepared environmental analyses that describe the potential impacts on the human environment that would result from the action. The analyses, identified by NOAA-NMFS-2022-0117, are available from https://www.regulations.gov/docket/NOAA-NMFS-2022-0117, or from Sarah Malloy, Acting Regional Administrator, NMFS Pacific Islands Region (PIR), 1845 Wasp Blvd., Bldg. 176, Honolulu, HI 96818.

FOR FURTHER INFORMATION CONTACT: Keith Kamikawa, NMFS PIR Sustainable Fisheries, 808-725-5177.

SUPPLEMENTARY INFORMATION: In a final rule published on June 15, 2023, NMFS specified a 2023 limit of 2,000 t of longline-caught bigeye tuna for each of the U.S. Pacific Island territories of American Samoa, Guam, and the CNMI (88 FR 39201). NMFS allows each territory to allocate up to 1,500 t of the 2,000 t limit to U.S. longline fishing vessels identified in a valid specified fishing agreement, but the overall allocation limit among all territories may not exceed 3,000 t.

On September 18, 2023, NMFS received from the Council, through its Executive Director, a specified fishing agreement between the CNMI and the Hawaii Longline Association (HLA) allocating 1,500 t of CNMI's 2,000 t bigeye tuna limit to U.S. fishing vessels identified in the agreement for 2023. The Council's Executive Director advised that the agreement is consistent with the FEP and its implementing regulations. On September 26, 2023, NMFS reviewed the agreement and determined that it is consistent with the FEP, implementing regulations, the Magnuson-Stevens Fishery Conservation and Management Act, and other applicable laws.

In accordance with 50 CFR 300.224(d) and 50 CFR 665.819(c)(9), vessels in the agreement may retain and land bigeye tuna in the western and central Pacific Ocean under the CNMI attribution specified in the fishing agreement. Based on logbook data submitted by U.S. longline vessels in the WCPFC Convention Area, NMFS forecasts that the U.S. longline fishery will reach the U.S. bigeye tuna limit of 3,554 t by October 15, 2023. Regulations at 665.819(c)(9)(i) directs NMFS to begin attributing catch to the applicable U.S. territory starting seven days before the date NMFS forecasts the U.S. limit to be reached, or upon the effective date of the agreement, whichever is later. Therefore, on October 8, 2023, NMFS will begin attributing bigeye tuna caught by vessels in the agreement to the CNMI. If NMFS determines that the fishery will reach the overall 2,000 t territorial catch limit or the 1,500 t allocation limit, we will restrict the catch and retention of longline-caught bigeye tuna by vessels in order to not exceed these limits, unless the vessels are included in a subsequent specified fishing agreement with another U.S. territory.

Authority: 16 U.S.C. 1801 et seq.

Dated: September 28, 2023.
Jennifer M. Wallace,
Acting Director, Office of Sustainable Fisheries, National Marine Fisheries Service.

[FR Doc. 2023-21838 Filed 10-2-23; 8:45 am]

BILLING CODE 3510-22-P